NATIONAL FOUNDATION ON THE ARTS AND HUMANITIES

Study of IMLS Funded Digital Collections and Content, Collections Registry Survey, Comment Request

AGENCY: Institute of Museum and Library Services.

ACTION: Notice of request for new information collection.

SUMMARY: The Institute of Museum and Library Services as part of its continuing effort to reduce paperwork and respondent burden, conducts a pre-clearance consultation program to provide the general public and Federal agencies with an opportunity to comment on proposed and/or continuing collections of information in accordance with the Paperwork Reduction Act of 1995 (Pub. L. 104-13, 44 U.S.C. Chapter 35). This program helps to ensure that the requested data can be provided in the desired format, reporting burden (time and financial resources) is minimized, collection instruments are clearly understood, and the impact of collection requirements on respondents can be properly assessed. Currently the Institute of Museum and Library Services is soliciting comments concerning the proposed collection of information from grantee institutions that received National Leadership Program digitization grants since 1998 and continuing through 2005. A copy of this proposed information collection may be obtained by contacting the individual listed in the ADDRESSES section of this notice.

DATES: Written comments must be received by the office listed in the addresses seciton of this notice by September 26, 2005.

IMLS is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: Rebecca Danvers, Director of Research and Technology, Institute of Museum and Library Services, 1800 M Street, NW., 9th Floor, Washington, DC 20036; telephone 202-653-4680, fax 202-653-4625, e-mail rdanvers@imls.gov.

SUPPLEMENTARY INFORMATION:

I. Background

The Institute of Museum and Library Services is an independent Federal grant-making agency authorized by the Museum and Library Services Act, Public Law 104-208. The IMLS provides a variety of grant programs to assist the nation's museums and libraries in improving their operations and enhancing their services to the public. Museums and libraries of all sizes and types may receive support from IMLS programs. In the National Leadership Grant program, IMLS funds the digitization of library and museum collections. The survey is a web-based form to collect electronically collection level data about digitization projects funded by the Institute of Museum and Library Services through the National Leadership Grant program.

II. Current Actions

To collect information from grantee institutions that received National Leadership Grant digitization grants from 1998 and continuing to 2005.

Agency: Institute of Museum and Library Services.

Title: IMLS Digital Collections and Content—Collection Registry Survey.

OMB Number: none.

Agency Number: 3137.

Frequency: Once.

Affected Public: Museums and libraries that created digital collections with IMLS funding.

Number of Respondents: 96.

Estimated Time Per Respondent: 7 hours.

Total Burden Hours: 67.2.

Total Annualized capital/startup costs: n/a.

Total Costs: $1680.

FOR FURTHER INFORMATION CONTACT: For a copy of the form contact: Rebecca Danvers, Director of Research and Technology, Institute of Museum and Library Services, 1800 M Street, NW., 9th Floor, Washington, DC 20036, by telephone at (202) 653-4680, by fax at (202) 653-4625, or by e-mail at rdanvers@imls.gov.

Dated: July 21, 2005.
Rebecca Danvers,
Director, Research and Technology.

[FR Doc. 05-14780 Filed 7-26-05; 8:45 am]

BILLING CODE 7036-01-M